DEPARTMENT OF LABOR

Employment and Training Administration

[TA-W-59,373]

North Gate Litho Print, Portland, OR; Notice of Termination of Investigation

Pursuant to Section 221 of the Trade Act of 1974, as amended, an investigation was initiated on May 11, 2006, in response to a worker petition filed by the State of Oregon on behalf of workers at North Gate Litho Print, Portland, Oregon.

The petitioner has requested that the petition be withdrawn. Consequently, the investigation has been terminated.

Signed at Washington, DC this 18th day of May 2006.
Elliott S. Kushner,
Certifying Officer, Division of Trade Adjustment Assistance.

[FR Doc. E6-8772 Filed 6-6-06; 8:45 am]

BILLING CODE 4510-30-P